GENERAL SERVICES ADMINISTRATION

48 CFR Part 538

[GSAR Case 2022-G514; Docket No. 2023-0009; Sequence No. 1]

RIN 3090-AK58

General Services Acquisition Regulation (GSAR); Standardizing Federal Supply Schedule Clause and Provision Prescriptions; Correction

AGENCY: Office of Acquisition Policy, General Services Administration (GSA).

ACTION: Final rule; correction.

SUMMARY: On January 12, 2024, GSA published a final rule amending the General Services Administration Acquisition Regulation (GSAR) to clarify when GSAR clauses apply to Federal Supply Schedule contracts. Some text inadvertently appeared in a section revision. This correction removes that text.

DATES: This correction is effective February 12, 2024.

FOR FURTHER INFORMATION CONTACT: Ms. Adina Torberntsson, Procurement Analyst, at 720-475-0568 or gsarpolicy@gsa.gov, for clarification of content. For information pertaining to status or publication schedules, contact the Regulatory Secretariat Division at 202-501-4755 or gsaregsec@gsa.gov. Please cite GSAR Case 2022-G514.

SUPPLEMENTARY INFORMATION: GSA is making a correction to a paragraph in the revision of 48 CFR 538.238-73 published in a final rule on January 12, 2024. The words “the Handicapped.” erroneously appeared in paragraph (b)(1) of the section.

Correction

In FR Doc. 2024-00519 appearing on page 2173 in the issue of January 12, 2024, make the following correction:

552.238-73 [Corrected]

On page 2173, in the second column, paragraph (b)(1) in revised section 552.238-73 is corrected by removing “the Handicapped.” following the first sentence.

Jeffrey A. Koses,
Senior Procurement Executive, Office of Acquisition Policy, Office of Government-wide Policy, General Services Administration.

[FR Doc. 2024-01216 Filed 1-22-24; 8:45 am]

BILLING CODE 6820-61-P